COMMODITY FUTURES TRADING COMMISSION

Sunshine Act Meeting

AGENCY: Commodity Futures Trading Commission.

“FEDERAL REGISTER” CITATION OF PREVIOUS ANNOUNCEMENT: 65 FR 11988.

PREVIOUSLY ANNOUNCED TIME AND DATE OF MEETING: 10:00 a.m., Wednesday, March 29, 2000.

CHANGES IN THE MEETING: The Commodity Futures Trading Commission has cancelled the meeting on proposed regulation 1.41(z).

CONTACT PERSON FOR MORE INFORMATION: Jean A. Webb, 418-5100.

Jean A. Webb,
Secretary of the Commission.

[FR Doc. 00-7409 Filed 3-22-00; 10:28 am]

BILLING CODE 6351-01-M